COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: October 6, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

8465-01-524-8407—Carrier, Entrenching Tool, Universal Camouflage

Authorized Source of Supply: Chutauqua County Chapter, NYSARC, Jamestown, NY

Contracting Activity: DLA TROOP SUPPORT, PHILADELPHIA, PA

NSN(s)—Product Name(s):

8465-01-524-8407—Carrier, Entrenching Tool, Universal Camouflage

Authorized Source of Supply: Dallas Lighthouse for the Blind, Inc., Dallas, TX

Contracting Activity: DLA TROOP SUPPORT, PHILADELPHIA, PA

Service(s)

Service Type: Janitorial/Custodial

Mandatory for: Eldorado National Forest: Supervisors Office, Placerville, CA

Authorized Source of Supply: PRIDE Industries, Roseville, CA

Contracting Activity: Forest Service, Tahoe National Forest

Service Type: Mailroom Operation

Mandatory for: Internal Revenue Service, University Plaza Building, 949 East 36th Avenue, Room 112, Anchorage, AK

Authorized Source of Supply: Assets, Inc., Anchorage, AK

Contracting Activity: Internal Revenue Service, Dept of Treas/Internal Revenue Service

Service Type: Grounds Maintenance

Mandatory for: Air National Guard Readiness Center, Andrews AFB, MD

Authorized Source of Supply: Melwood Horticultural Training Center, Inc., Upper Marlboro, MD

Contracting Activity: Dept of Defense, DOD/Off of Secretary of Def (Exec Mil Depts)

Service Type: Janitorial/Custodial Service

Mandatory for: Bureau of Land Management, 620 East Greene Street, Carlsbad Field Office, Carlsbad, NM

Authorized Source of Supply: Tresco, Inc., Las Cruces, NM

Contracting Activity: Bureau of Land Management, NM-Carlsbad Field Office

Service Type: Grounds Maintenance

Mandatory for: US Army Corps of Engineers, Douglas Creek Recreation Area, 201 First Street, Riverdale, ND

Authorized Source of Supply: MVW Services, Inc., Minot, ND

Contracting Activity: Dept of The Army, W071 Endist, Omaha

Michael R. Jurkowski,
Director, Business Operations.

[FR Doc. 2024-20100 Filed 9-5-24; 8:45 am]

BILLING CODE 6353-01-P